DEPARTMENT OF AGRICULTURE

Cooperative State Research, Education, and Extension Service

Notice of Intent To Revise and Request an Extension of a Currently Approved Information Collection

AGENCY: Cooperative State Research, Education, and Extension Service, USDA.

ACTION: Notice and request for comments.

SUMMARY: In accordance with the Paperwork Reduction Act of 1995 and Office of Management and Budget (OMB) implementing regulations this notice announces the Cooperative State Research, Education, and Extension Service's (CSREES) intention to revise and extend a currently approved information collection, Forms CSREES-662, “Assurance Statement(s);” CSREES-663, “Current and Pending Support;” CSREES-708, “Summary Vita—Teaching Proposal;” CSREES-710, “Summary Vita—Research Proposal;” CSREES-711, “Intent to Submit a Proposal;” CSREES-712, “Higher Education Proposal Cover Page;” and CSREES-713, “Higher Education Budget”

DATES: Comments on this notice must be received by November 27, 2000 to be assured of consideration.

ADDRESSES: Address all comments concerning this notice to Dr. Sally J. Rockey, Deputy Administrator; Competitive Research Grants and Awards Management; Cooperative State Research, Education, and Extension Service; U.S. Department of Agriculture; STOP 2240; 1400 Independence Avenue, SW; Washington, DC 20250-2240. E-mail: rfp-oep@reeusda.gov.

FOR FURTHER INFORMATION CONTACT: Contact Sally J. Rockey, (202) 401-1761.

SUPPLEMENTARY INFORMATION:

Titles: Assurance Statement(s), Current and Pending Support, Summary Vita—Teaching Proposal, Summary Vita—Research Proposal, Intent to Submit a Proposal, Higher Education Proposal Cover Page, and Higher Education Budget.

OMB Number: 0524-0030.

Expiration Date of Current Approval: December 31, 2000.

Type of Request: Revise and extend a currently approved information collection.

Abstract: The Higher Education Program (HEP) unit of USDA/CSREES administers several competitive, peer-reviewed research and teaching programs, under which grants of a high-priority nature are awarded. These programs are authorized pursuant to the authorities contained in the National Agricultural Research, Extension, and Teaching Policy Act of 1977, as amended (7 U.S.C. 3101 et seq.), section 1417(b)(1) for the Higher Education Challenge Grants Program (7 U.S.C. 3152), section 1417(b)(4) for the 1890 Institution Capacity Building Grants Program (7 U.S.C. 3152), section 1417(j) for the Secondary Agriculture Education Challenge Grants Program (7 U.S.C. 3152), section 1455 for the Hispanic-Serving Institutions Education Grants Program (7 U.S.C. 3241), and the Equity in Educational Land-Grant Status Act of 1994 (7 U.S.C. 301 note) for the Tribal Colleges Education Equity Grants Program and Tribal Colleges Research Grants Program. The Higher Education Challenge Grants Program is intended to assist colleges and universities in the United States in providing high quality educational programs in the food and agricultural sciences. The 1890 Institution Capacity Building Grants Program is intended to strengthen the teaching and research capabilities of the sixteen 1890 historically black Land-Grant Institutions and Tuskegee University. The Secondary Agriculture Education Challenge Grants Program is intended to promote and strengthen secondary education in agriscience and agribusiness and increasing the number of young Americans pursuing baccalaureate or higher degrees in the food and agricultural sciences. The Hispanic-Serving Institutions Education Grants Program is intended to promote and strengthen the ability of Hispanic-Serving Institutions to carry out educational programs. The Tribal Colleges Education Equity Grants Program is intended to support projects that strengthen academic programs at the 1994 Land-Grant Institutions. The Tribal Colleges Research Grants Program is intended to assist the Tribal Colleges to conduct agricultural research that addresses high priority concerns of tribal, national, or multistate significance. All of these programs will, in turn, attract outstanding students and produce graduates capable of strengthening the Nation's food and agricultural scientific and professional work force. Before awards can be made, certain information is required from applicants as part of an overall proposal package. In addition to project summaries, descriptions of the research or teaching efforts, literature reviews, curricula vitae of principal investigators, and other, relevant technical aspects of the proposed project, supporting documentation of an administrative and budgetary nature also must be provided. Because of the nature of the competitive, peer-reviewed process, it is important that information from applicants be available in a standardized format to ensure equitable treatment. Each year, HEP solicitations are issued requesting proposals for various research and teaching areas targeted for support. Applicants submit proposals for these targeted research and teaching areas following the format outlined in the proposal application guidelines accompanying each solicitation. These proposals are evaluated by peer review panels and awarded on a competitive basis. These programs have been using forms that have been approved in an OMB-approved collection of information package (OMB No. 0524-0030). Forms CSREES-662, “Assurance Statement(s);” CSREES-663, “Current and Pending Support;” CSREES-708, “Summary Vita— Teaching Proposal;” CSREES-710, “Summary Vita—Research Proposal;” CSREES-711, “Intent to Submit a Proposal;” CSREES-712, “Higher Education Proposal Cover Page;” and CSREES-713, “Higher Education Budget” are mainly used for proposal evaluation and administration purposes. While some of the information may be used to respond to inquiries from Congress and other government agencies, the forms are not designed to be statistical surveys or data collection instruments. Their completion by potential recipients is a normal part of the application to Federal agencies which support basic and applied scientific research.

Since several programs use these forms the number of copies requested by CSREES varies. The number required is either five or seven. The number required depends on the size of the peer review panel of the program. Multiple copies are requested as a result of a desire to minimize delays in beginning the review process that would be caused if CSREES were required to make the copies in-house, and minimization of the risk of proposals becoming separated, incorrectly organized, or misplaced during a high volume, minimally-staffed, time-driven photocopying process.

The following information has been collected and will continue to be collected:

Form CSREES-662—Assurances: Provides required assurances of compliance with regulations involving the protection of human subjects, animal welfare, and recombinant DNA research. By signing this form the grant recipient assures CSREES that it is in compliance with the pertinent regulations regarding these issues.

Form CSREES-663—Current and Pending Support: Provides information for key personnel's active and pending projects an applicant may have. This form is used by CSREES to ensure that a project is not being funded more than once by any Federal governmental agency, and to ensure that a principal investigator is not overextending their workload by committing more than 100% of their time to all of their funded projects.

Form CSREES-708—Teaching Credentials: Identifies key personnel contributing substantially to the conduct of a teaching project and provides pertinent information concerning their backgrounds. This form is used by CSREES to ensure that the key personnel involved in the project have the necessary knowledge and skills to carry out the work for the project.

Form CSREES-710—Research Credentials: Identifies key personnel contributing substantially to the conduct of a research project and provides pertinent information concerning their backgrounds. Currently, the only programs using this form are the 1890 Institution Capacity Building Grants Program and the Tribal Colleges Research Grants Program. This form is used by CSREES to ensure that the key personnel involved in the project have the necessary knowledge and skills to carry out the work for the project.

Form CSREES-711—Intent to Submit: Provides names, addresses, and phone numbers of project directors and authorized agents of applicant institutions and general information regarding potential proposals. The submission of this form gives the program manager an idea of how many and the substance of proposals that will possibly be submitted. This allows the program manager to make preparations for setting up panels and other administrative details.

Form CSREES-712—Proposal Cover Page: Provides names, addresses, and phone numbers of project directors and authorized agents of applicant institutions and general information regarding the proposals. This form provides CSREES with the necessary information for making an award.

Form CSREES-713—Budget: Provides a breakdown of the purposes for which funds will be spent in the event of a grant award. This form is used by CSREES to determine how grant funds will be expended and if the proposed costs are allowable.

Estimate of Burden: Public reporting burden for this collection of information is estimated to average .75 hour for Form CSREES-662, 2.5 hours for Form CSREES-663, 2.5 hours for Form CSREES-708, 2.0 hours for Form CSREES-710, 1.25 hours for Form CSREES-711, 1.2 hours for Form CSREES-712, and 5 hours for Form CSREES-713. This average was based on a survey of grantees who had recently been approved for awards. They were asked to give an estimate of time it took them to complete each form. This estimate was to include such things as: (1) Reviewing the instructions; (2) Searching existing data sources; (3) Gathering and maintaining the data needed; and (4) Actual completion of the forms. The average time it took each respondent was calculated from their responses.

Respondents: Non-profit institutions, or organizations and State and local governments.

Estimated Number of Respondents: 320 for Form CSREES-708; 130 for Form CSREES-710; 50 for Form CSREES-711; and 450 each for Forms CSREES-662, CSREES-663, CSREES-712 and CSREES-713.

Estimated Number of Responses per Respondent: 1.

Estimated Total Annual Burden on Respondents: 5,376 hours, broken down by: 338 hours for Form CSREES-662 (.75 hour per response times 450 respondents); 1,125 hours for Form CSREES-663 (2.5 hours per response times 450 respondents); 800 hours for Form CSREES-708 (2.5 hours per response times 320 respondents); 260 hours for Form CSREES-710 (2.0 hours per response times 130 respondents); 63 hours for Form CSREES-711 (1.25 hour per response times 50 respondents); 540 hours for Form CSREES-712 (1.2 hours per response times 450 respondents); 2,250 hours for Form CSREES-713 (5 hours per response times 450 respondents).

Copies of this information collection can be obtained from Dr. Sally Rockey, Deputy Administrator, at (202) 401-1761. E-mail: OEP@reeusda.gov.

Comments: Comments are invited on: (a) Whether the proposed collection of information is necessary for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments should be sent to the address stated in the preamble.

All responses to this notice will be summarized and included in the request for OMB approval. All comments also will become a matter of public record.

Done at Washington, DC, this 14 day of September, 2000.
Charles W. Laughlin,
Administrator, Cooperative State Research, Education, and Extension Service.

[FR Doc. 00-24218 Filed 9-20-00; 8:45 am]

BILLING CODE 3410-22-P